ENVIRONMENTAL PROTECTION AGENCY

[FRL-7586-5]

Comprehensive Environmental Response, Compensation and Liability Act (CERCLA), Section 104(k); Announcement of Proposal Deadlines for the Competition for the 2004 National Brownfields Assessment, Revolving Loan Fund, and Cleanup Grants—Correction

AGENCY: Environmental Protection Agency (EPA).

ACTION: Notice of the availability of brownfields grant application guidelines and deadlines for submissions of proposals—Correction.

SUMMARY: The Environmental Protection Agency published a document in the Federal Register on October 16, 2003 (68 FR 59611), concerning the availability of brownfields grant application guidelines and deadlines for submissions of proposals. The guidelines referenced in this notice contained incorrect information.

FOR FURTHER INFORMATION CONTACT: The U.S. EPA's Office of Solid Waste and Emergency Response, Office of Brownfields Cleanup and Redevelopment, (202) 566-2777.

SUPPLEMENTARY INFORMATION: The following corrections have been made to the guidelines that are posted at http://www.epa.gov/brownfields:

On page 19 of the Proposal Guidelines for Brownfields Assessment, Revolving Loan Fund, and Cleanup Grants, an error was found in the section, Revolving Loan Fund, Threshold Criteria D, Site Eligibility and Property Ownership Eligibility. The first sentence is incorrect. It should read, “If you do not have specific sites identified, please move on to Threshold Criteria E, Cleanup Authority and Oversight Structure.”

Also, for Threshold Criteria C, Letter from the State or Tribal Environmental Authority, for both Revolving Loan Fund and Cleanup Grants, the first sentence should read, “For an applicant other than a state or tribal environmental authority, provide a current letter from the appropriate state or tribal environmental authority acknowledging that the applicant plans to conduct cleanup activities and is planning to apply for federal grant funds.”

Dated: November 6, 2003.
Linda Garczynski,
Director, Office of Brownfields Cleanup and Redevelopment, Office of Solid Waste and Emergency Response.

[FR Doc. 03-28576 Filed 11-13-03; 8:45 am]

BILLING CODE 6560-50-P